DEPARTMENT OF JUSTICE

Notice of Lodging of Consent Decree Under the Clean Water Act

Notice is hereby given that on April 27, 2011, a proposed Consent Decree in United States v. Town of Greenwich, Connecticut, Civil Action No. 3:11-CV-00674-RNC, was lodged with the United States District Court for the District of Connecticut.

In this action, the United States seeks, inter alia, injunctive relief in relation to unauthorized discharges from the Town's wastewater collection system (“Collection System”), in violation of the Town's National Pollutant Discharge Elimination System Permit issued under the Clean Water Act, 33 U.S.C. 1251, et seq. The discharges resulted from ruptures in the Old Greenwich Common Force Main, which is a critical component of the Collection System. The Consent Decree requires the Town, among other things, to pay a $200,000 penalty and rehabilitate a section of the Old Greenwich Common Force Main. The Consent Decree further requires the town to evaluate the need to replace other sections of the force main that have not been replaced in the past. In the event another rupture to the force main occurs, the agreement requires the town to pay additional penalties and replace some or all of the older sections of the force main—depending on the circumstances of the rupture.

The Department of Justice will receive for a period of thirty (30) days from the date of this publication comments relating to the proposed Consent Decree. Comments should be addressed to the Assistant Attorney General, Environment and Natural Resources Division, and either e-mailed to pubcomment-ees.enrd@usdoj.gov or mailed to P.O. Box 7611, U.S. Department of Justice, Washington, DC 20044-7611, and should refer to United States v. Town of Greenwich, Civil Action No. 3:11-CV-00674-RNC, D.J. Ref. 90-5-1-1-06717/1.

During the public comment period, the Consent Decree, may also be examined on the following Department of Justice Web site, to http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $13.50 (25 cents per page reproduction costs of Consent Decree and Appendices) payable to the U.S. Treasury or, if by e-mail or fax, forward a check in that amount to the Consent Decree Library at the stated address.

Ronald G. Gluck,
Assistant Chief, Environmental Enforcement Section, Environment and Natural Resources Division.

[FR Doc. 2011-11403 Filed 5-10-11; 8:45 am]

BILLING CODE 4410-15-P